DEPARTMENT OF THE INTERIOR

National Park Service

Route 66 Corridor Preservation Program Advisory Council; Notice of Meeting

Notice is hereby given in accordance with the Federal Advisory Committee Act, Public Law 92-463, that a meeting of the Route 66 Corridor Preservation Program Advisory Council will be held November 6 and 7, 2008, in St. Louis, Missouri. The meeting on November 6 will be held from 8:30 to 2:30 p.m. at the Roberts Mayfair Hotel, 806 St. Charles Street, St. Louis, Missouri. The meeting on November 7 will be held from 9 a.m. to 5 p.m. at the Old Courthouse (part of the Jefferson National Expansion Memorial) located at 11 North 4 Street in St. Louis.

The Route 66 Corridor Preservation Program Advisory Council was established to consult with the Secretary of the Interior on matters relating to the Route 66 Corridor Preservation Program, including recommendations for ways to best preserve important properties along Route 66, recommendations for grant and cost-share awards to eligible applicants owning or administering historic properties along the Route 66 Corridor, and recommendations for technical assistance provided by the National Park Service to partners along the route.

The matters to be discussed include:

—Committee report on accountability and measurement

—Committee report on education and outreach

—Committee report on preservation management

—Strategic media initiative

—Report on preliminary economic impacts of heritage tourism along Route 66

—Report on motel preservation initiatives along Route 66

—Preservation of historic bridges along Route 66

The meeting will be open to the public. However, facilities and space for accommodating members of the public are limited, and persons will be accommodated on a first-come, first-served basis. The public comment period is scheduled from 9-10 a.m. on Friday, November 7. Any member of the public may file a written statement concerning the matters to be discussed with Michael Taylor, Route 66 Corridor Preservation Program Manager.

Persons wishing further information concerning this meeting, or who wish to submit written statements, may contact Michael Taylor, Route 66 Corridor Preservation Program Manager, National Trails System—Santa Fe, National Park Service, P.O. Box 728, Santa Fe, New Mexico 87504-0728, telephone 505-988-6742. Minutes of the meeting will be available for public inspection at the Route 66 Corridor Preservation Program Office, located in Room 122, Old Santa Fe Trail Building, 1100 Old Santa Fe Trail, Santa Fe, New Mexico.

Dated: August 25, 2008.
Michael Romero Taylor,
Designated Federal Officer, Route 66 Corridor Preservation Program.

[FR Doc. E8-21276 Filed 9-12-08; 8:45 am]

BILLING CODE 4310-EE-M